DEPARTMENT OF COMMERCE

International Trade Administration

[A-570-851]

Certain Preserved Mushrooms from the People's Republic of China: Initiation of Antidumping Duty New Shipper Review

AGENCY: Import Administration, International Trade Administration, Department of Commerce.

SUMMARY: The Department of Commerce has received requests to conduct a new shipper review of the antidumping duty order on certain preserved mushrooms from the People's Republic of China. In accordance with 19 CFR 351.214(d), we are initiating a review for Primera Harvest (Xiangfan) Co., Ltd. and Xiamen International Trade & Industrial Co., Ltd., exporters and producers of certain preserved mushrooms from the People's Republic of China.

EFFECTIVE DATE: March 28, 2003.

FOR FURTHER INFORMATION CONTACT: Brian Smith or Davina Hashmi, Import Administration, International Trade Administration, U.S. Department of Commerce, 14th Street and Constitution Avenue, N.W., Washington, D.C. 20230; telephone (202) 482-1766 and (202) 482-0984, respectively.

SUPPLEMENTARY INFORMATION:

Background

The Department has received timely requests from Primera Harvest (Xiangfan) Co., Ltd. (“Primera Harvest”) and Xiamen International Trade & Industrial Co., Ltd. (“XITIC”), in accordance with 19 CFR 351.214(c), for a new shipper review of the antidumping duty order on certain preserved mushrooms from the People's Republic of China (“PRC”), which has a February anniversary month.

As required by 19 CFR 351.214(b)(2)(i), (ii), and (iii)(A), each company identified above has certified that it did not export certain preserved mushrooms to the United States during the period of investigation (“POI”), and that it has never been affiliated with any exporter or producer which did export certain preserved mushrooms during the POI. The company has further certified that its export activities are not controlled by the central government of the PRC, satisfying the requirements of 19 CFR 351.214(b)(2)(iii)(B). Pursuant to the Department's regulations at 19 CFR 351.214(b)(2)(iv)(A), each company submitted documentation establishing the date on which it first shipped the subject merchandise to the United States, the date of entry of that first shipment, the volume of that shipment, and the date of the first sale to an unaffiliated customer in the United States.

In accordance with section 751(a)(2)(B) of the Act, as amended, and 19 CFR 351.214(b), and based on information on the record, we are initiating the new shipper review for Primera Harvest and XITIC.

Initiation of Review

In accordance with section 751(a)(2)(B)(ii) of the Act and 19 CFR 351.214(d)(1), we are initiating a new shipper review of the antidumping duty order on certain preserved mushrooms from the PRC. Normally we would issue the preliminary results of this review not later than 180 days after the date on which the review is initiated. However, on March 12, 2003, Primera Harvest and XITIC agreed to waive the time limits in order that the Department, pursuant to 19 CFR 351.214(j)(3), may conduct this review concurrent with the fourth administrative review of this order for the period February 1, 2002- January 31, 2003, which is being conducted pursuant to section 751(a)(1) of the Act. Therefore, we intend to issue the final results of this review not later than 245 days after the last day of the anniversary month.

Antidumping Duty New Shipper Review | Period to be Reviewed
PRC: Certain Preserved Mushrooms, A-570-851:
Primera Harvest (Xiangfan) Co., Ltd. | 02/01/02 - 01/31/03
Xiamen International Trade & Industrial Co., Ltd. | 02/01/02 - 01/31/03

We will instruct the Customs Service to allow, at the option of the importer, the posting, until the completion of the review, of a bond or security in lieu of a cash deposit for each entry of the subject merchandise from the above-listed companies. Because XITIC and Xiangfan have certified that they both produce and export the subject merchandise, the sale of which was the basis for their new shipper review requests, we will apply the bonding privilege only to entries of the subject merchandise for which they are both the producer and exporter.

Interested parties that need access to proprietary information in this new shipper review should submit applications for disclosure under administrative protective orders in accordance with 19 CFR 351.305 and 351.306.

This initiation and notice are in accordance with section 751(a) of the Act (19 U.S.C. 1675(a)) and 19 CFR 351.214(d).

Dated: March 21, 2003.
Susan H. Kuhbach,
Acting Deputy Assistant Secretary for Import Administration.

[FR Doc. 03-7520 Filed 3-27-03; 8:45 am]

BILLING CODE 3510-DS-S